DEPARTMENT OF COMMERCE

International Trade Administration

Applications for Duty-Free Entry of Scientific Instruments

Pursuant to section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, DC 20230. Applications may be examined between 8:30 a.m. and 5 p.m. in Suite 4100W, U.S. Department of Commerce, Franklin Court Building, 1099 14th Street, NW., Washington, DC.

Docket Number: 03-053. Applicant: Case Western Reserve University, 10900 Euclid Avenue, Cleveland, OH 44106. Instrument: Scanning Near-Field Optical Microscope, Model ALPHASNOM. Manufacturer: WITEC, Germany. Intended Use: The instrument is intended to be used to examine and investigate:

1. The location of nanometer sized minerals within collagen fibril templates and the alignment of collagen fibrils with respect to each other.

2. The rate of diffusion of Ca ions normal to the neuron membrane surface after stimulating Ca ion channels to conduct.

3. Relative placement of fluorescently labeled proteins residing on sphingolipid rafts on T cell membranes.

4. Alignment of liquid crystal molecules at a glass surface.

5. Surface diffusion of fluorescently labeled antibodies conjugated to proteins inserted in fluorosomes.

Application accepted by Commissioner of Customs: April 7, 2004.

Docket Number: 04-006. Applicant: The Jackson Laboratory, 600 Main Street, Bar Harbor, ME 04609. Instrument: Electron Microscope, Model JEM-1230 (HC). Manufacturer: Jeol Ltd., Japan. Intended Use: The instrument is intended to be used to investigate:

1. Morphological studies in the area of eye research including corneal disease, glaucoma, and retinal degenerations.

2. Development of progressive ataxia correlated with progressive neuronal loss in the cerebellum of a novel mutant mouse strain.

3. Characterizing trophoblast stem (TS) cell differentiation in vitro.

4. Severe hemolytic anemia in mice (hereditary spherocytosis) with deficiencies of the red cell cytoskeletal proteins alpha spectrin, beta spectrin or ankyrin.

Application accepted by Commissioner of Customs: April 6, 2004.

Docket Number: 04-007. Applicant: Argonne National laboratory. Instrument: UHV STM Microscope with Cryostat. Manufacturer: Unisoku Scientific Instruments, Japan. Intended Use: The instrument is intended to be used for low temperature microscopy and spectroscopy of superconductors and semiconductors and to study surface reconstruction and conditioning, vortex imaging and measurement of phonon spectra in materials to obtain a better understanding of the mechanisms of superconductivity and other electronic phenomena.

Application accepted by Commissioner of Customs: April 10, 2004.

Docket Number: 04-008. Applicant: California Institute of Technology. Instrument: Dual Beam SEM/FIB System, Model Nova 600 NanoLab. Manufacturer: FEI Company, Japan. Intended Use: The instrument is intended to be used to investigate:

1. Deposition of contacts and local metallization for connecting nano-devices.

2. Definition of gratings and lenses on optical fibers as well as ring and sphere resonators.

3. Ion-beam assisted intermixing of semiconductors for low-loss optical devices.

4. Rapid prototyping of nano-electric and nano-photonic devices.

5. Identification of corrosion products for surface analysis and mineral analysis.

Application accepted by Commissioner of Customs: April 19, 2004.

Gerald A. Zerdy,
Program Manager, Statutory Import Programs Staff.

[FR Doc. 04-10664 Filed 5-10-04; 8:45 am]

BILLING CODE 3510-DS-P